DEPARTMENT OF ENERGY

Federal Energy Regulatory Commission

Combined Notice of Filings #1

March 6, 2009.

Take notice that the Commission received the following electric rate filings:

Docket Numbers: ER99-1435-017.

Applicants: Avista Corporation.

Description: Avista Corp submits an errata to its January 29, 2009 filing to reflect a correct effective date of January 29, 2009, which includes Revised Sheets 5, 6, and 8.

Filed Date: 03/02/2009.

Accession Number: 20090306-0009.

Comment Date: 5 p.m. Eastern Time on Friday, March 13, 2009.

Docket Numbers: ER99-1435-018.

Applicants: Avista Corporation.

Description: Notice of non-material change in status.

Filed Date: 03/04/2009.

Accession Number: 20090304-5139.

Comment Date: 5 p.m. Eastern Time on Wednesday, March 25, 2009.

Docket Numbers: ER03-534-009.

Applicants: Ingenco Wholesale Power, LLC.

Description: Supplement to Application for Finding of Category 1 Seller Status and filing of Revised Market-Based Rate Tariff of Ingenco Wholesale Power, LLC.

Filed Date: 03/02/2009.

Accession Number: 20090302-5190.

Comment Date: 5 p.m. Eastern Time on Monday, March 23, 2009.

Docket Numbers: ER04-691-091.

Applicants: Midwest Independent System Transmission System Operator, Inc.

Description: Midwest Independent Transmission System Operator, Inc. submits responses to the FERC's 2/9/09 letter seeking additional information, and requiring the amendment of compliance filing etc.

Filed Date: 02/24/2009.

Accession Number: 20090225-0227.

Comment Date: 5 p.m. Eastern Time on Tuesday, March 17, 2009.

Docket Numbers: ER07-771-003.

Applicants: E.ON U.S. LLC.

Description: True-Up Filing of E.ON U.S. LLC.

Filed Date: 03/02/2009.

Accession Number: 20090302-5184.

Comment Date: 5 p.m. Eastern Time on Monday, March 23, 2009.

Docket Numbers: ER08-1317-003.

Applicants: California Independent System Operator Corp.

Description: Quarterly Report on Process in Processing Interconnection Requests and Motion for Extension of Time of the California Independent System Operator Corporation.

Filed Date: 02/27/2009.

Accession Number: 20090227-5220.

Comment Date: 5 p.m. Eastern Time on Friday, March 20, 2009.

Docket Numbers: ER09-369-000.

Applicants: PJM Interconnection L.L.C.

Description: PJM Interconnection, LLC submits response to FERC 1/3/09 deficiency notice requesting PJM to provide additional information re its proposed change to the PJM Open Access Transmission Tariff, etc.

Filed Date: 03/02/2009.

Accession Number: 20090305-0052.

Comment Date: 5 p.m. Eastern Time on Monday, March 23, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. E9-5582 Filed 3-13-09; 8:45 am]

BILLING CODE 6717-01-P